DEPARTMENT OF TRANSPORTATION

Federal Aviation Administration

Office of Commercial Space Transportation; Notice of Extension of Public Scoping Comment Period for the Spaceport Camden Environmental Impact Statement.

AGENCY: DOT, Federal Aviation Administration (FAA), lead Federal agency; and National Aeronautics and Space Administration, and National Park Service, cooperating agencies.

ACTION: Notice of extension of public scoping comment period.

SUMMARY: A Notice of Intent to prepare an Environmental Impact Statement, open a public scoping period, and hold a public scoping meeting for the proposed Spaceport Camden was published in the Federal Register by the Federal Aviation Administration on November 6, 2015. The comment period for the Draft EIS was to end on January 4, 2016 (more than 45 days after publication of the Notice of Intent in the Federal Register). This notice extends the comment period to January 18, 2016 to allow the public additional time to provide scoping comments.

DATES: Written comments must be received on or before January 18, 2016.

ADDRESSES: Please submit comments, statements, or questions concerning scoping issues or the EIS process to Ms. Stacey M. Zee, FAA Environmental Specialist, Spaceport Camden County EIS c/o Leidos, 20201 Century Boulevard, Suite 105, Germantown, MD 20874. Comments can also be sent by email to FAACamdenSpaceportEIS@Leidos.com.

FOR FURTHER INFORMATION CONTACT: Ms. Stacey M. Zee, Environmental Protection Specialist, Federal Aviation Administration, 800 Independence Avenue SW., Suite 325, Washington, DC 20591; email Stacey.Zee@faa.gov; or phone (202) 267-9305.

SUPPLEMENTARY INFORMATION: On November 6, 2015, the FAA published a Notice of Intent to prepare an Environmental Impact Statement, open a public scoping period, and hold a public scoping meeting for the proposed Spaceport Camden in the Federal Register and requested comments. The public scoping period was originally scheduled to close on January 4, 2016, but the FAA extended the comment period an additional 14 consecutive days, changing the deadline for submitting public scoping comments from January 4, 2016 to January 18, 2016.

Additional information regarding the proposed project is available online at: http://www.faa.gov/about/office_org/headquarters_offices/ast/environmental/nepa_docs/review/documents_progress/camden_spaceport/.

Issued in Washington, DC on January 5, 2016.
Daniel Murray,
Manager, Space Transportation Development Division.

[FR Doc. 2016-00304 Filed 1-8-16; 8:45 am]

BILLING CODE 4910-13-P